DEPARTMENT OF DEFENSE

Office of the Secretary

Meeting of the Defense Advisory Committee on Women in the Services (DACOWITS)

AGENCY: Department of Defense.

ACTION: Notice.

SUMMARY: Pursuant to Section 10 (a), Public Law 92-463, as amended, notice is hereby given of a forthcoming meeting of the Defense Advisory Committee on Women in the Services (DACOWITS). The purpose of the meeting is for the Committee to receive a follow-up briefing from the Sexual Assault Prevention and Response Office and the Services on the Committee's requests for information concerning sexual assault and sexual harassment. Additionally, the Committee will develop and approve recommendations for the 2011 report. The meeting is open to the public, subject to the availability of space.

Interested persons may submit a written statement for consideration by the Defense Advisory Committee on Women in the Services. Individuals submitting a written statement must submit their statement to the Point of Contact listed below at the address detailed below no later than 5 p.m., Tuesday, September 20, 2011. If a written statement is not received by Tuesday, September 20, 2011, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement should be submitted as above. After reviewing the written comments, the Chairperson and the Designated Federal Officer will determine who of the requesting persons will be able to make an oral presentation of their issue during an open portion of this meeting or at a future meeting. Determination of who will be making an oral presentation is at the sole discretion of the Committee Chair and the Designated Federal Officer and will depend on time available and if the topics are relevant to the Committee's activities. Two minutes will be allotted to persons desiring to make an oral presentation. Oral presentations by members of the public will be permitted only on Thursday, September 22, 2011 from 4:15 p.m. to 5 p.m. in front of the full Committee. Number of oral presentations to be made will depend on the number of requests received from members of the public.

DATES: September 22, 2011, 8 a.m.-5 p.m.; September 23, 2011, 8 a.m.-12 p.m.

ADDRESSES: Sheraton National Hotel, 900 Orme St, Arlington, VA 22204.

FOR FURTHER INFORMATION CONTACT: Mr. Robert Bowling or DACOWITS Staff at 4000 Defense Pentagon, Room 2C548A, Washington, DC 20301-4000. E-mail: Robert.bowling@osd.mil. Telephone (703) 697-2122. Fax (703) 614-6233.

SUPPLEMENTARY INFORMATION:

Meeting Agenda

Thursday, September 22, 2011, 8 a.m.-5 p.m.

—Welcome, introductions, and announcements.

—Receive briefings from the Sexual Assault Prevention and Response Office on sexual assault and harassment information.

—Receive briefings from the Services on sexual assault and harassment information.

—Public Forum.

Friday, September 23, 2011, 8 a.m.-12 p.m.

—Committee develops and approves recommendations for 2011 report.

Dated: September 2, 2011.
Aaron Siegel,
Alternate OSD Federal Register Liaison Officer, Department of Defense.

[FR Doc. 2011-23002 Filed 9-7-11; 8:45 am]

BILLING CODE 5001-06-P